DEPARTMENT OF TRANSPORTATION

Research and Special Programs Administration

Office of Hazardous Materials Safety; Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before September 29, 2000.

ADDRESSES: Send comments to: Records Center, Research and Special Programs Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the New Docket Management Facility, PL-401, at the U.S. Department of Transportation, Nassif building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on August 17, 2000.
J. Suzanne Hedgepeth,
Director, Office of Hazardous Materials Exemptions and Approvals.

New Exemptions
Application No. | Docket No. | Applicant | Regulation(s) affected | Nature of exemption thereof
12515-N | RSPA-2000-7772 | FIBA Technologies, Inc., Westboro, MA | 49 CFR 172.101, 178.338-10, 178.338-13, 178.338-2(c), 178.338-6(a), 178.338-9(b) | To authorize the transportation in commerce of non-DOT specification portable tanks for use in transporting various Division 2.2 material. (Modes 1, 2.)
12516-N | RSPA-2000-7767 | Poly-Coat Systems, Inc., Houston, TX | 49 CFR 107.503(b)(c), 172.102(c) (3)B15 & B23, 173.241; 173.242; 178.345-1;-2;-3;-4;-7;-14;-15;, 178.347-1;-2:, 178.348-1, 178.348-2, 180.405, 180.413(d) | To authorize the manufacture, marking and sale of non-DOT specification cargo tanks constructed of fiberglass reinforced plastic for use in transporting various classes of hazardous materials. (Mode 1.)
12517-N | RSPA-2000-7773 | Cytec Industries Inc., Willow Island, WV | 49 CFR 174.67(i) & (j) | To authorize rail cars to remain standing while connected without the physical presence of an unloader. (Mode 2.)
12518-N | RSPA-2000-7774 | Air Products & Chemicals, Inc., Allentown, PA | 49 CFR 173.301(j)(1), 173.34(e) | To authorize an alternative retesting method of DOT3A, 3AA and 3AL and foreign cylinders for use in transporting liquefied or nonliquefied compressed gases or mixtures. (Modes 1, 3, 4, 5.)
12519-N | RSPA-2000-7775 | Kingsford Manufacturing Company, Burnside, KY | 49 CFR 174.67(i)(j) | To authorize rail cars to remain stand while connected during unloading without the physical presence of an unloader. (Mode 2.)
12520-N | RSPA-2000-7776 | ShipMate, Inc., Redondo Beach, CA | 49 CFR 173.301, 173.302, 173.306(a)(1) | To authorize the use of non-specification fiberboard boxes for certain life-saving devices where offered in transportation as air bag modules, not subjected to certain provisions of the Hazardous Materials Regulations. (Modes 1, 2, 3, 4, 5.)
12521-N | RSPA-2000-7777 | Airgas Inc., Madison, CT | 49 CFR 173.301(j) | To authorize the transportation in commerce of non-DOT specification cylinders manufactured in the U.S. for export with valving and relief device requirements of the country that the cylinders will be exported to for use in transporting various compressed gases. (Mode 1.)
12525-N | RSPA-2000-7766 | ICO Worldwide, Inc., Houston, TX | 49 CFR 172.406(f) | To authorize the transportation in commerce of a specially designed device (mobile pipe inspection unit pulled by a tractor) containing radioactive material, Type A, transported with obscured markings. (Mode 1.)
12526-N | RSPA-2000-7768 | Aeronex, Inc., San Diego, IL | 49 CFR 173.212, 173.213 | To authorize the manufacture, marking and sale of non-DOT specification cylinders for use in transporting Division 4.1 and 4.2 hazardous materials. (Modes 1, 2, 3, 4.)
12527-N | RSPA-2000-7765 | Department of Defense (MTMTC) Falls Church, VA | 49 CFR 178, Subpart 504 | To authorize the one-time transportation in commerce of DOT 5C stainless steel drums containing residue of corrosive liquid, n.o.s., Class 8 material, that were filled prior to performance oriented packaging (POP) requirements. (Mode 1.)

Note: In Federal Register Vol. 65, No. 143, Tuesday, July 25, 2000 on page 45827 “List of applicants for exemptions” 12481-N Trac Regulations Co., Inc., Mt. Vernon, NY “Modes” should have appeared as (Modes 1, 2, 4) and 12493-N Caroline Power & Light Co. “Docket No.” should have appeared as RSPA-00-7596.

[FR Doc. 00-22078 Filed 8-29-00; 8:45 am]

BILLING CODE 4910-60-M